DEPARTMENT OF COMMERCE

Foreign-Trade Zones Board

[B-40-2019]

Foreign-Trade Zone (FTZ) 100—Dayton, Ohio; Notification of Proposed Production Activity; Whirlpool Corporation (Small Appliances), Greenville, Ohio

Whirlpool Corporation (Whirlpool) submitted a notification of proposed production activity to the FTZ Board for its facility in Greenville, Ohio. The notification conforming to the requirements of the regulations of the FTZ Board (15 CFR 400.22) was received on June 19, 2019.

The applicant indicates that it will be submitting a separate application for FTZ designation at the company's facility under FTZ 100. The Whirlpool facility is used for the production of small appliances. Pursuant to 15 CFR 400.14(b), FTZ activity would be limited to the specific foreign-status materials and components and specific finished products described in the submitted notification (as described below) and subsequently authorized by the FTZ Board.

Production under FTZ procedures could exempt Whirlpool from customs duty payments on the foreign-status components used in export production. On its domestic sales, for the foreign-status materials/components noted below, Whirlpool would be able to choose the duty rates during customs entry procedures that apply to: Blenders; hand blenders; stand mixers; blender jars; cabinet tops; domes and blades; lower housings and gearings; attachment packs; planetary gears and shafts; lower gearcases; and, seals and couplers (duty rate ranges from 2.5 to 4.2%). Whirlpool would be able to avoid duty on foreign-status components which become scrap/waste. Customs duties also could possibly be deferred or reduced on foreign-status production equipment.

The components and materials sourced from abroad include: Plastic cases; plastic knobs; plastic seals; plastic grommets; plastic lids; cardboard boxes; literature (use and care guides); cotton cloth covers not knitted or crocheted; cotton cloth covers; cloth covers; non-woven cotton cloth bags; steel screws; slicer/blade attachments; steel wall brackets; scale and sifter attachments; bearing retainers; transmission shafts; pinion gears; worm gears; bevel gears; DC motors between 18.65W and 14.92kW; Universal AC/DC motors greater than 74.6W; single-phase AC gear motors; single-phase AC motors; electrical armatures; lithium-ion batteries; stand mixer attachments and bowls; heating resistors; heating elements; electronic switches; rotary switches; pushbutton switches; slide switches; control panels/user interfaces; power cords; carbon brushes; and, cleaning brushes (duty rate ranges from duty-free to 9.9%). The request indicates that cotton cloth covers not knitted or crocheted, cotton cloth covers, cloth covers, and lithium-ion batteries will be admitted to the zone in privileged foreign status (19 CFR 146.41), thereby precluding inverted tariff benefits on such items. The request also indicates that certain materials/components are subject to special duties under Section 301 of the Trade Act of 1974 (Section 301), depending on the country of origin. The applicable Section 301 decisions require subject merchandise to be admitted to FTZs in privileged foreign status.

Public comment is invited from interested parties. Submissions shall be addressed to the Board's Executive Secretary and sent to: ftz@trade.gov. The closing period for their receipt is August 7, 2019.

A copy of the notification will be available for public inspection in the “Reading Room” section of the Board's website, which is accessible via www.trade.gov/ftz.

For further information, contact Elizabeth Whiteman at Elizabeth.Whiteman@trade.gov or (202) 482-0473.

Dated: June 25, 2019.
Andrew McGilvray,
Executive Secretary.

[FR Doc. 2019-13861 Filed 6-27-19; 8:45 am]

BILLING CODE 3510-DS-P